DEPARTMENT OF THE INTERIOR

National Park Service

National Register of Historic Places; Notification of Pending Nominations and Related Actions

Nominations for the following properties being considered for listing or related actions in the National Register were received by the National Park Service before August 27, 2005. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by September 28, 2005.

John W. Roberts,
Acting Chief, National Register/National Historic Landmarks Program.

AMERICAN SAMOA

Eastern District

Satala Cemetery, W of Satala, Lalopua, 05001110

ARIZONA

Cochise County

Evergreen Cemetery, Old Douglas Rd., Bisbee, 05001111

CALIFORNIA

Monterey County

Marsh, G.T., and Sons, 599 Fremont St., Monterey, 05001113

San Diego County

Salk Institute for Biological Studies, 10010 N. Torrey Pines Rd., San Diego, 05001114

San Francisco County

Veterans Affairs Medical Center—San Francisco, California, 4150 Clement St., San Francisco, 05001112

COLORADO

Larimer County

Swanson, Gustav and Annie, Farm, 1932 N. CO 287, Bethoud, 05001116

FLORIDA

Alachua County

Shady Grove Primitive Baptist Church, 804 S.W. Fifth St., Gainesville, 05001115

Miami-Dade County

Cadillac Hotel, 3925 Collins Ave, Miami Beach, 05001117

Sarasota County

Maine Colony Historic District, Bounded by Swift Rd. Ashton Rd., Portland Wy. and Grafton St., Sarasota, 05001118

MISSOURI

Jackson County

Old Town Historic District (Boundary Increase II), 136 Main St., Kansas City, 05001119

St. Louis Independent City, Tiffany Neighborhood Historic District (Boundary Decrease), Roughly bounded by 39th St., Lafayette Ave., Vandeventer Ave. and Folsom Ave., St. Louis (Independent City), 05001120

NEVADA

Washoe County

Kind, J. Clarence, House, 751 Marsh Ave., Reno, 05001121

White Pine County

US Post Office, Ely, Nevada, (US Post Offices in Nevada MPS) 415 Fifth St., Ely, 05001122

NEW YORK

Broome County

Your Home Library, 107 Main St., Johnson City, 05001138

Cayuga County

Belt—Gaskin House, 77 Chapman Ave., Auburn, 05001135

Sennett Federated Church and Parsonage, 777 Weedsport—Sennett Rd., Sennett, 05001130

Chenango County

Guilford Center Cemetery, Cty Rte. 36, Guilford Center, 05001129

Rockdale Community Church, NY 8, Rockdale, 05001128

Madison County

Morrisville Public Library, 87 East Main St., Morrisville, 05001126

Seventh Day Baptist Church, Utica St., DeRuyter, 05001136

Montgomery County

Bragdon—Lipe House, 17 Otsego St., Canajoharie, 05001123

Gray—Jewett House, 80 Florida Ave., Amsterdam, 05001127

Nassau County

Vaisbeg, Samuel, House, 257 W. Olive St., Long Beach, 05001137

Oswego County

Pleasant Lawn Cemetery, NY 69A, Parish, 05001125

St. Lawrence County

United Presbyterian Church, 26 Church St., Lisbon, 05001124

Suffolk County

Babylon Town Hall, 47 W. Main St., Babylon, 05001131

Camp Quinepet, 78 Shore Rd., Shelter Island Heights, 05001133

First National Bank of Port Jefferson, Main and East Main Sts., Port Jefferson, 05001134

Washington County

Easton Friends North Meetinghouse, NY 40, Schaghticoke—Middle Falls Rd., Middle Falls, 05001132

NORTH CAROLINA

Chowan County

Princeton Graded School, 601-611 W. Edwards St., Princeton, 05001139

NORTH DAKOTA

Barnes County

Ladbury Church, 6 mi. E of Dazey on ND 26, N 3 mi. then 0.25 mi. W, Dazey, 05001140

McIntosh County

Wishek City Hall, Old, 21 Centennial St., Wishek, 05001141

OHIO

Butler County

Scott, John, Barn and Granary, 3681 Hamilton-New London Rd., Shandon, 05001142

Cuyahoga County

Alta Public Library, 12510 Mayfield Rd., Cleveland, 05001143

Greene County

Emery Hall, Central State University Campus, Wilberforce, 05001144

Lucas County

B'nai Israel Synagogue, Address Restricted, Toledo, 05001145

Summit County

Werner, Edward P., House, 258 W. Market St., Akron, 05001146

OREGON

Multnomah County

Jones Cash Store, (Portland Eastside MPS) 111 S.E. Belmont St., Portland, 05001148

McAvinney Fourplex, 2004 NE 17th Ave., Portland, 05001147

Palestine Lodge, 6401 S. E. Foster Rd., Portland, 05001149

Pipes, Wade H., House, 3045 N. E. 9th Ave., Portland, 05001150

Portland Garden Club, 1132 SW Vista Ave., Portland, 05001151

RHODE ISLAND

Washington County

Lewis-Card-Perry House, 12 Margin St., Westerly, 05001152

SOUTH CAROLINA

Dillon County

Hayes, John, Farmstead, 1251 SC 38 W, Latta, 05001153

Greenville County

East Park Historic District, Roughly bounded by East Park Ave., Bennett St., Harcourt Dr., and Rowley St., Greenville, 05001157

Monaghan Mill, 201 Smythe St., Greenville, 05001159

Richland Cemetery, Hilly St. and Sunflower St., Greenville, 05001155

Springwood Cemetery, Main St. and Elford St., Greenville, 05001156

Horry County

Derham, John P., House, 1076 Green Sea Rd., Green Sea, 05001154

Spartanburg County

Arcadia Mill No. 2, 100 W. Cleveland St., Spartanburg, 05001158

VIRGINIA

Northumberland County

ELVA C (Deck Boat), 504 Main St., Reedville, 05001160

[FR Doc. 05-18042 Filed 9-12-05; 8:45 am]

BILLING CODE 4312-J1-P